NUCLEAR REGULATORY COMMISSION

NUREG/CR-XXXX, “Approaches for Using Traditional Probabilistic Risk Assessment Methods for Digital Systems”; Draft Report for Comment

AGENCY: Nuclear Regulatory Commission.

ACTION: Notice of availability for public comment.

SUMMARY: The Nuclear Regulatory Commission (NRC) is conducting research to support development of regulatory guidance for using risk information related to digital systems in the licensing actions of nuclear power plants (NPPs). The objective of this research is to identify and develop methods, analytical tools, and regulatory guidance to support (1) Using information on the risks of digital systems in NPP licensing decisions, and (2) including models of digital systems into NPP probabilistic risk assessments (PRAs).

In support of this research, Brookhaven National Laboratory (BNL) is working on the use of traditional methods to develop and quantitatively assess reliability models of digital systems. As part of this work, BNL will apply two selected traditional methods to two benchmark digital systems. The initial tasks in the BNL project, including preparatory work for developing the reliability models of the first benchmark system, are addressed in draft NUREG/CR-XXXX, “Approaches for Using Traditional Probabilistic Risk Assessment Methods for Digital Systems.” This notice announces the availability of the draft NUREG/CR for public comment.

DATES: Please submit comments on NUREG/CR-XXXX, “Approaches for Using Traditional Probabilistic Risk Assessment Methods for Digital Systems,” by November 14, 2007. Comments received after this date will be considered if practical to do so, but the NRC staff is able to ensure consideration only for those comments received on or before this date.

ADDRESSES: NUREG/CR-XXXX, “Approaches for Using Traditional Probabilistic Risk Assessment Methods for Digital Systems,” is available for inspection and copying for a fee at the NRC's Public Document Room (PDR), Public File Area O-1F21, One White Flint North, 11555 Rockville Pike, Rockville, Maryland. Publicly available documents created or received at the NRC after November 1, 1999, are available electronically at the NRC's Electronic Reading Room at http://www.nrc.gov/NRC/ADAMS/index.html. From this site, the public can gain entry into the NRC's Agencywide Document Access and Management System (ADAMS), which provides text and image files of the NRC's public documents. The ADAMS Accession Numbers for NUREG/CR-XXXX, “Approaches for Using Traditional Probabilistic Risk Assessment Methods for Digital Systems,” are ML072690235 (main report) and ML072690238 (appendices). If you do not have access to ADAMS or if there are problems in accessing the documents located in ADAMS, contact the NRC PDR Reference staff at 1-800-397-4209, 301-415-4737, or by e-mail to pdr@nrc.gov.

This document will also be posted on the NRC's public Web site at: http://www.nrc.gov/about-nrc/regulatory/research/digital/tech-reference.html#one.

Please submit comments to Chief, Rulemaking, Directives and Editing Branch, Division of Administrative Services, Office of Administration, U.S. Nuclear Regulatory Commission, Washington, DC 20555-0001. You may also deliver comments to 11545 Rockville Pike, Rockville, MD, between 7:30 a.m. and 4:30 p.m. Federal workdays, or by e-mail to: nrcrep@nrc.gov.

FOR FURTHER INFORMATION CONTACT: Alan Kuritzky, Office of Nuclear Regulatory Research, U.S. Nuclear Regulatory Commission, Washington, DC 20555-0001, telephone (301) 415-6255, e-mail: ask1@nrc.gov.

Dated at Rockville, Maryland, this 9th day of October, 2007.
For the U.S. Nuclear Regulatory Commission.
Christiana Lui,
Director, Division of Risk Analysis, Office of Nuclear Regulatory Research.

[FR Doc. E7-20301 Filed 10-12-07; 8:45 am]

BILLING CODE 7590-01-P